ENVIRONMENTAL PROTECTION AGENCY

[EPA-R09-OAR-2008-0323; FRL-8763-8]

Adequacy Status of Motor Vehicle Emissions Budgets in Submitted San Joaquin Valley 8-Hour Ozone Reasonable Further Progress and Attainment Plan for Transportation Conformity Purposes; California

AGENCY: Environmental Protection Agency (EPA).

ACTION: Notice of adequacy and inadequacy.

SUMMARY: In this notice, EPA is notifying the public that the Agency has found that the motor vehicle emissions budgets for the years 2011, 2014 and 2017 from the San Joaquin Valley 2007 Ozone Plan are adequate for transportation conformity purposes. In this notice, EPA is also notifying the public that the Agency has found that the motor vehicle emissions budgets for the years 2008, 2020 and 2023 from the San Joaquin Valley 2007 Ozone Plan are inadequate for transportation conformity purposes. The San Joaquin Valley 2007 Ozone Plan was submitted to EPA on November 16, 2007 by the California Air Resources Board (CARB) as a revision to the California State Implementation Plan (SIP), and includes reasonable further progress and attainment demonstrations for the 8-hour ozone standard. On February 1, 2008, CARB submitted supplemental technical information related to reasonable further progress for the 8-hour ozone standard in San Joaquin Valley. As a result of our adequacy findings, the San Joaquin Valley Metropolitan Planning Organizations and the U.S. Department of Transportation must use the adequate budgets, and cannot use the inadequate budgets, for future conformity determinations.

DATES: This finding is effective February 6, 2009.

FOR FURTHER INFORMATION CONTACT: Karina O'Connor, U.S. EPA, Region IX, Air Division AIR-2, 75 Hawthorne Street, San Francisco, CA 94105-3901; (775) 833-1276 or oconnor.karina@epa.gov.

SUPPLEMENTARY INFORMATION: Throughout this document, whenever “we,” “us,” or “our” is used, we mean EPA.

Today's notice is simply an announcement of a finding that we have already made. EPA Region IX sent a letter to CARB on January 8, 2009 stating that the motor vehicle emissions budgets in the submitted San Joaquin Valley 2007 Ozone Plan, as supplemented by CARB on February 1, 2008, for the reasonable further progress (RFP) milestone years of 2011, 2014, 2017 are adequate. The finding is available at EPA's conformity Web site: http://www.epa.gov/otaq/stateresources/transconf/adequacy.htm. The adequate motor vehicle emissions budgets are provided in the following table:

Motor Vehicle Emission Budgets
[Summer planning tons per day]
Year: County | 2011: VOC¹ | 2011: NOX | 2014: VOC¹ | 2014: NOX | 2017: VOC¹ | 2017: NOX
Fresno | 15.5 | 47.9 | 12.9 | 37.2 | 11.1 | 29.1
Kern (SJV) | 15.7 | 79.4 | 13.5 | 64.1 | 11.6 | 49.5
Kings | 3.4 | 15.9 | 2.8 | 12.3 | 2.3 | 9.4
Madera | 3.7 | 12.2 | 3.1 | 9.7 | 2.6 | 7.7
Merced | 6.2 | 28.8 | 5.1 | 22.3 | 4.2 | 17.1
San Joaquin | 12.1 | 34.7 | 10.1 | 27.8 | 8.6 | 21.3
Stanislaus | 9.0 | 22.3 | 7.5 | 17.2 | 6.5 | 13.4
Tulare | 9.2 | 20.9 | 7.7 | 16.6 | 6.7 | 13.1
¹ The plan uses a comparable State term, reactive organic gases (ROG).

Our letter dated January 8, 2009 also states that budgets for 2008, 2020, and 2023 are inadequate for transportation conformity purposes. The San Joaquin Valley 8-hour ozone plan does not show reasonable further progress for the year 2008. As a result, one of the transportation conformity rule's adequacy criteria is not met (40 CFR 93.118(e)(4)(iv)), and thus, the 2008 budget is inadequate. The State has included additional on-road mobile source emissions reductions in the budgets for 2020 and 2023 from the 2007 State Strategy for the California SIP. The adequate budgets include no such reductions but rather reflect emissions reductions from CARB rules that have already been adopted. EPA has determined that the 2020 and 2023 budgets are inadequate because they include new emission reductions that do not result from specific or enforceable control measures. As a result, three of the transportation conformity rule's adequacy criteria are not met (40 CFR 93.118(e)(4)(iii), (iv), and (v)) for these budgets. The inadequate motor vehicle emissions budgets are provided in the following table:

Inadequate Motor Vehicle Emission Budgets
[Summer planning tons per day]
Year: County | 2008: VOC¹ | 2008: NOX | 2020: VOC¹ | 2020: NOX | 2023: VOC¹ | 2023: NOX
Fresno | 18.6 | 58.5 | 8.0 | 16.9 | 7.8 | 15.7
Kern (SJV) | 18.1 | 93.9 | 8.5 | 28.4 | 8.1 | 24.8
Kings | 3.9 | 18.3 | 1.7 | 5.3 | 1.6 | 4.7
Madera | 4.4 | 14.6 | 1.9 | 4.8 | 1.9 | 4.5
Merced | 7.4 | 35.5 | 2.9 | 9.9 | 2.8 | 9.0
San Joaquin | 13.9 | 40.0 | 6.3 | 12.7 | 6.3 | 11.9
Stanislaus | 10.5 | 26.7 | 4.9 | 8.0 | 4.6 | 7.1
Tulare | 10.5 | 23.4 | 5.2 | 8.4 | 4.8 | 7.4
¹ The plan uses a comparable State term, reactive organic gases (ROG).

Receipt of the motor vehicle emissions budgets in the San Joaquin Valley 2007 Ozone Plan was announced on EPA's transportation conformity Web site on April 18, 2008. We received comments in response to the adequacy review posting. The finding and the response to comments are available at EPA's transportation conformity Web site: http://www.epa.gov/otaq/stateresources/transconf/adequacy.htm.

Transportation conformity is required by Clean Air Act section 176(c). EPA's conformity rule requires that transportation plans, transportation improvement programs, and projects conform to SIPs and establishes the criteria and procedures for determining whether or not they do conform. Conformity to a SIP means that transportation activities will not produce new air quality violations, worsen existing violations, or delay timely attainment of the national ambient air quality standards.

The criteria by which we determine whether a SIP's motor vehicle emission budgets are adequate for conformity purposes are outlined in 40 CFR 93.118(e)(4) which was promulgated in our August 15, 1997 final rule (62 FR 43780, 43781-43783). We have further described our process for determining the adequacy of submitted SIP budgets in our July 1, 2004 final rule (69 FR 40004, 40038), and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: January 9, 2009.
Laura Yoshii,
Acting Regional Administrator, Region IX.

[FR Doc. E9-1110 Filed 1-21-09; 8:45 am]

BILLING CODE 6560-50-P